DEPARTMENT OF STATE

[Public Notice: 7407]

Bureau of Diplomatic Security, Office of Foreign Missions; 60-Day Notice of Proposed Information Collection: Form DS-4155, Vendor Application for OFM Website Account; & form DS-7576, Foreign Mission Emergency Afterhours Contact for Foreign Diplomatic Services Applications, OMB Collection Number 1405-0105

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Vendor Application for OFM Website Account.

• OMB Control Number: 1405-0105.

• Type of Request: Extension of Currently Approved Collection.

• Originating Office: Diplomatic Security/Office of Foreign Missions (DS/OFM).

• Form Numbers: DS-4155.

• Respondents: Foreign government representatives assigned to the U.S. and bonded warehouse vendors.

• Estimated Number of Respondents: 1,005 missions.

• Estimated Number of Responses: 3,015 responses.

• Average Hours per Response: 20 minutes.

• Total Estimated Burden: 1,005 hours divided among the missions.

• Frequency: On occasion.

• Obligation to Respond: Required to obtain or retain a benefit.

• Title of Information Collection: Foreign Mission Emergency Afterhours Contact.

• OMB Control Number: 1405-0105.

• Type of Request: Extension of Currently Approved Collection.

• Originating Office: Diplomatic Security/Office of Foreign Missions (DS/OFM).

• Form Number: DS-7675.

• Respondents: Foreign government representatives assigned to the United States.

• Estimated Number of Respondents: 737 missions.

• Estimated Number of Responses: 737 forms per year.

• Average Hours per Response: 15 minutes.

• Total Estimated Burden: 184 hours divided among the missions.

• Frequency: Annually.

• Obligation to Respond: Required to obtain or retain a benefit.

DATES: The Department will accept comments from the public up to June 3, 2011.

ADDRESSES: You may submit comments by either of the following methods:

• E-mail: OFMInfo@state.gov.

• Mail: Attn: Jacqueline Robinson, U.S. Department of State, Diplomatic Security, Office of Foreign Missions, 2201 C Street, NW., Room 2238, Washington, DC 20520.

You must include the DS form number, information collection title, and OMB control number in any correspondence.

FOR FURTHER INFORMATION CONTACT: Direct requests for additional information regarding the collection listed in this notice, including requests for copies of the proposed information collection and supporting documents, to Attn: Jacqueline Robinson, Diplomatic Security, Office of Foreign Missions, 2201 C Street, NW., Room 2238, Washington, DC 20520, who may be reached on (202) 647-3416 or OFMInfo@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Foreign Diplomatic Service Application Forms DS-4155 and DS-7675 are associated with OMB Collection number 1405-0105. Form DS-4155 (Vendor Application for OFM Website Account) is the means by which the Department of State (DOS) will provide authorized vendor access to the Office of Foreign Missions' electronic data submission (e-Gov) Bonded Warehouse program. This application will be used to determine eligibility and create a user account permitting bonded warehouse personnel, on behalf of foreign missions authorizing the request, to submit electronic bonded warehouse purchases (form DS-1504) for OFM clearance. OFM's e-Gov system is accessed to submit automated service requests to the Office of Foreign Missions and the Office of Protocol of the U.S. State Department to obtain “benefits” designated under the Vienna Convention on Diplomatic Relations (1961) (VCDR), the Vienna Convention on Consular Relations (1963) (VCCR), and the Foreign Missions Act, 22 U.S.C. 4301 et seq., that must be obtained through the U.S. Department of State. Form DS-7675 is the means by which the DOS will maintain current emergency contact information on senior level officials assigned to foreign missions in the diplomatic and consular communities in the United States. The application requests the primary and deputy senior level points of contact information for both work and after work hours to use to communicate essential information in an emergency, crisis, or disaster situation. The applications provide the Department with the necessary information to administer its programs effectively and efficiently, as well as prepare for an emergency event.

Methodology: These applications/information collections are submitted by all foreign missions to the Office of Foreign Missions via the following methods: electronically, mail, or personal delivery.

Dated: March 22, 2011.
Bruce Matthews,
Managing Director, Bureau of Diplomatic Security, Office of Foreign Missions, U.S. Department of State.

[FR Doc. 2011-7928 Filed 4-1-11; 8:45 am]

BILLING CODE 4710-43-P